DEPARTMENT OF TRANSPORTATION

Surface Transportation Board

[STB Finance Docket No. 33886]

Arizona & California Railroad Company Limited Partnership d/b/a Puget Sound & Pacific Railroad Company—Lease and Operation Exemption—Union Pacific Railroad Company

Arizona & California Railroad Company Limited Partnership (ARZC) d/b/a Puget Sound & Pacific Railroad Company (PS&P),¹ has filed a verified notice of exemption under 49 CFR 1150.41 to lease and operate approximately 1.8 miles of certain rail lines from the Union Pacific Railroad Company (UP) as follows: (1) From UP milepost 53.83 to UP milepost 54.23; and (2) from UP milepost 55.28 to UP milepost 56.70, in Aberdeen and Hoquiam Counties, WA.

¹ ARZC is an existing Class III rail carrier, and PS&P is an operating division of ARZC. See Arizona & California Railroad Company Limited Partnership—Acquisition and Operation Exemption—The Burlington Northern and Santa Fe Railway Company, STB Finance Docket No. 33448 (STB served Sept. 11, 1997).

The transaction was scheduled to be consummated on or after June 26, 2000.

If the notice contains false or misleading information, the exemption is void ab initio. Petitions to revoke the exemption under 49 U.S.C. 10502(d) may be filed at any time. The filing of a petition to revoke will not automatically stay the transaction.

An original and 10 copies of all pleadings, referring to STB Finance Docket No. 33886, must be filed with the Surface Transportation Board, Office of the Secretary, Case Control Unit, 1925 K Street, NW., Washington, DC 20423-0001. In addition, one copy of each pleading must be served on Rose-Michele Weinryb, Esq,, Weiner, Brodsky, Sidman & Kider, P.C., 1300 19th Street, NW., Fifth Floor, Washington, DC 20036-1609.

Board decisions and notices are available on our website at “WWW.STB.DOT.GOV.”

Decided: June 29, 2000.
By the Board, David M. Konschnik, Director, Office of Proceedings.
Vernon A. Williams,
Secretary.

[FR Doc. 00-17121 Filed 7-6-00; 8:45 am]

BILLING CODE 4915-00-P